DEPARTMENT OF TRANSPORTATION

Coast Guard

[USCG 2000-8032]

Information Collections Under Review by the Office of Management and Budget (OMB): 2115-0617 and 2115-0016

AGENCY: Coast Guard, DOT.

ACTION: Request for comments.

SUMMARY: In compliance with the Paperwork Reduction Act of 1995, this request for comments announces that the Coast Guard has forwarded the two Information Collection Requests (ICRs) abstracted below to OMB for review and comment. These ICRs describe the information we seek to collect from the public. Review and comment by OMB ensure that we impose only paperwork burdens commensurate with our performance of duties.

DATES: Please submit comments on or before January 29, 2001.

ADDRESSES: Please send comments to (1) the Docket Management System (DMS), U.S. Department of Transportation (DOT), room PL-401, 400 Seventh Street SW., Washington, DC 20590-0001; and (2) the Office of Information and Regulatory Affairs (OIRA), Office of Management and Budget (OMB), 725 17th Street NW., Washington, DC 20503, to the attention of the Desk Officer for the USCG.

Copies of the complete ICRs are available for inspection and copying in public docket USCG 2000-8032 of the Docket Management Facility between 10 a.m. and 5 p.m., Monday through Friday, except Federal holidays; for inspection and printing on the internet at http://dms.dot.gov; and for inspection from the Commandant (G-CIM-2), U.S. Coast Guard, room 6106, 2100 Second Street SW., Washington, DC, between 10 a.m. and 4 p.m., Monday through Friday, except Federal holidays.

FOR FURTHER INFORMATION CONTACT: Barbara Davis, Office of Information Management, 202-267-2326, for questions on this document; Dorothy Beard, Chief, Documentary Services Division, U.S. Department of Transportation, 202-366-9330, for questions on the docket.

SUPPLEMENTARY INFORMATION:

Regulatory History

This request constitutes the 30-day notice required by OMB. The Coast Guard has already published [65 FR 59884 (October 6, 2000)] the 60-day notice required by OMB. That request elicited no comments.

Request for Comments

The Coast Guard invites comments on the proposed collections of information to determine whether the collections are necessary for the proper performance of the functions of the Department. In particular, the Coast Guard would appreciate comments addressing: (1) The practical utility of the collections; (2) the accuracy of the Department's estimated burden of the collections; (3) ways to enhance the quality, utility, and clarity of the information that is the subject of the collections; and (4) ways to minimize the burden of collections on respondents, including the use of automated collection techniques or other forms of information technology.

Comments, to DMS or OIRA, must contain the OMB Control Numbers of all ICRs addressed. Comments to DMS must contain the docket number of this request, USCG 2000-8032. Comments to OIRA are best assured of having their full effect if OIRA receives them within 30 days or less after the publication of this request.

Information Collection Requests

1. Title: Direct Users' Fees for Inspection or Examination of U.S. and Foreign Commercial Vessels.

OMB Control Number: 2115-0617.

Type of Request: Extension of a currently approved collection.

Affected Public: Owners of vessels .

Form(s): CG-5565 and CG-5565A.

Abstract: This collection requires the submission of identifying information such as vessels' names and identification numbers. A written request to the Coast Guard is necessary.

Annual Estimated Burden Hours: The estimated burden is 4,648 hours a year.

2. Title: Characteristics of Liquid Chemicals Proposed for Movement in Bulk by Water.

OMB Control Number: 2115-0016.

Type of Request: Extension of a currently approved collection.

Affected Public: Manufacturers of chemicals.

Forms: CG-4355.

Abstract: The Coast Guard requires manufacturers of new chemicals to submit data on the chemicals. From these data, the Coast Guard determines the appropriate precautions to take.

Annual Estimated Burden Hours: The estimated burden is 129 hours a year.

Dated: December 20, 2000.
V.S. Crea,
Director of Information and Technology.

[FR Doc. 00-33190 Filed 12-27-00; 8:45 am]

BILLING CODE 4910-15-P